DEPARTMENT OF ENERGY

Federal Energy Regulatory Commission

Combined Notice of Filings #1

Take notice that the Commission received the following electric corporate filings:

Docket Numbers: EC18-111-000.

Applicants: Grand River Wind LLC, Trishe Wind Ohio, LLC.

Description: Amendment to June 25, 2018 Application for Approval Pursuant under Section 203 of the Federal Power Act of Grand River Wind LLC, et al.

Filed Date: 7/18/18.

Accession Number: 20180718-5145.

Comments Due: 5 p.m. ET 7/25/18.

Take notice that the Commission received the following electric rate filings:

Docket Numbers: ER15-1218-005.

Applicants: Solar Star California XIII, LLC.

Description: Compliance filing: Solar Star California XIII MBR Tariff Change in Status to be effective 7/20/2018.

Filed Date: 7/19/18.

Accession Number: 20180719-5074.

Comments Due: 5 p.m. ET 8/9/18.

Docket Numbers: ER16-38-003.

Applicants: Kingbird Solar A, LLC.

Description: Compliance filing: Kingbird Solar A LLC Notice of Change in Category Status to be effective7/20/2018.

Filed Date: 7/19/18.

Accession Number: 20180719-5077.

Comments Due: 5 p.m. ET 8/9/18.

Docket Numbers: ER18-2036-000.

Applicants: PJM Interconnection, L.L.C.

Description: Tariff Cancellation: Notice of Cancellation of Service Agreement No. 5044; Queue No. AB1-013 to be effective 5/21/2018.

Filed Date: 7/18/18.

Accession Number: 20180718-5130.

Comments Due: 5 p.m. ET 8/8/18.

Docket Numbers: ER18-2037-000.

Applicants: Boulder Solar Power, LLC.

Description: § 205(d) Rate Filing: Amendments to Boulder Solar Shared Facilities Agreement No. 1 to be effective 7/19/2018.

Filed Date: 7/19/18.

Accession Number: 20180719-5028.

Comments Due: 5 p.m. ET 8/9/18.

Docket Numbers: ER18-2038-000.

Applicants: Cogentrix Virginia Financing Holding Company, LLC.

Description: Tariff Cancellation: Notice of Cancellation to be effective7/20/2018.

Filed Date: 7/19/18.

Accession Number: 20180719-5035.

Comments Due: 5 p.m. ET 8/9/18.

Docket Numbers: ER18-2039-000.

Applicants: Public Service Company of Colorado.

Description: § 205(d) Rate Filing: 2019-07-19 PSCo-TSGT Non-Cnfmg LGIA-Rifle SS-0.0.0-Filing to be effective 7/19/2018.

Filed Date: 7/19/18.

Accession Number: 20180719-5048.

Comments Due: 5 p.m. ET 8/9/18.

Docket Numbers: ER18-2040-000.

Applicants: James River Genco, LLC.

Description: Tariff Cancellation: Notice of Cancellation to be effective7/20/2018.

Filed Date: 7/19/18.

Accession Number: 20180719-5049.

Comments Due: 5 p.m. ET 8/9/18.

Docket Numbers: ER18-2041-000.

Applicants: Public Service Company of Colorado.

Description: § 205(d) Rate Filing: PSCo-TSGT-JM Shafer-E&P-459-0.1.0-NOC to be effective7/20/2018.

Filed Date: 7/19/18.

Accession Number: 20180719-5054.

Comments Due: 5 p.m. ET 8/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2018.
Nathaniel J. Davis, Sr.,
Deputy Secretary.

[FR Doc. 2018-16082 Filed 7-26-18; 8:45 am]

BILLING CODE 6717-01-P